SMALL BUSINESS ADMINISTRATION

Agency Information Collection Activity: Generic Information Collection Under Circular A-11, Section 280: Improving Customer Service

AGENCY: U.S. Small Business Administration.

ACTION: 60-Day notice and request for comments.

SUMMARY: Under the Paperwork Reduction Act (PRA) of 1995, federal agencies are required to publish a notice in the Federal Register concerning each proposed collection of information and allow 60 days for public comment in response to the notice. Accordingly, the U.S. Small Business Administration (SBA), as part of its continuing effort to reduce paperwork and respondent burden, invites the general public and other Federal agencies to comment on a new proposed information collection on improving customer service.

DATES: Written comments must be submitted on or before September 9, 2019.

ADDRESSES: Direct all comments to Terell Lasane, Lead Program Evaluator, Office of Performance Management and the Chief Financial Officers, Small Business Administration, 409 3rd Street, 6th Floor, Washington, DC 20416.

FOR FURTHER INFORMATION CONTACT: Terell Lasane, Lead Program Evaluator, performance.management@sba.gov, 202-205-7111, or Curtis B. Rich, Management Analyst, 202-205-7030, curtis.rich@sba.gov.

SUPPLEMENTARY INFORMATION:

I. Abstract

Whether seeking a loan, Social Security benefits, veterans' benefits, or other services provided by the Federal Government, individuals and businesses expect Government customer services to be efficient and intuitive, just like services from leading private-sector organizations. Yet the 2016 American Consumer Satisfaction Index and the 2017 Forrester Federal Customer Experience Index show that, on average, Government services lag nine percentage points behind the private sector.

A modern, streamlined and responsive customer experience means: Raising government-wide customer experience to the average of the private sector service industry; developing indicators for high-impact Federal programs to monitor progress towards excellent customer experience and mature digital services; and providing the structure (including increasing transparency) and resources to ensure customer experience is a focal point for agency leadership. To support this, OMB Circular A-11 Section 280 established government-wide standards for mature customer experience organizations. To enable Federal programs to deliver the experience taxpayers deserve, agencies must undertake three general categories of activities: Conduct ongoing customer research, gather and share customer feedback, and test services and digital products.

These data collection efforts may be either qualitative or quantitative in nature or may consist of mixed methods. Additionally, data may be collected via a variety of means, including but not limited to electronic or social media, direct or indirect observation (e.g., in person, video and audio collections), interviews, questionnaires, surveys, and focus groups. The U.S. Small Business Administration will limit its inquiries to data collections that solicit strictly voluntary opinions or responses. Steps will be taken to ensure anonymity of respondents in each activity covered by this request.

The results of the data collected will be used to understand and improve the delivery of Federal services and programs. It will include the creation of personas, customer journey maps, formative evaluations, reports and summaries of customer feedback data and user insights.

II. Method of Collection

SBA will collect this information by electronic means when possible, as well as by mail, fax, telephone, technical discussions, and in-person interviews. SBA may also utilize observational techniques to collect this information.

III. Data

Form Number(s): None.

Type of Review: New.

Affected Public: Collections will be targeted to the solicitation of opinions from respondents who have experience with a program or may have experience with it in the near future. For the purposes of this request, “customers” are individuals, businesses, and organizations that interact with a Federal Government agency or program, either directly or via a Federal contractor. This could include individuals or households; businesses or other for-profit organizations; not-for-profit institutions; State, local or tribal governments; Federal government; and Universities.

Estimated Number of Respondents: 500,000.

Estimated Time per Response: Varied, dependent upon the data collection method used. The possible response time to complete a questionnaire or survey may be 3 minutes or up to 2 hours to participate in an interview.

Estimated Total Annual Burden Hours: 37,500.

Estimated Total Annual Cost to Public: $0.

IV. Request for Comments

The U.S. Small Business Administration invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Curtis Rich,
Management Analyst.

[FR Doc. 2019-14749 Filed 7-10-19; 8:45 am]

BILLING CODE P